ENVIRONMENTAL PROTECTION AGENCY

40 CFR Part 52

[TX-126-3-7474; FRL-6934-3]

Approval and Promulgation of Air Quality State Implementation Plans (SIP); Texas: Motor Vehicle Inspection and Maintenance (I/M) Program

AGENCY: Environmental Protection Agency (EPA).

ACTION: Proposed rule.

SUMMARY: We, the EPA, are proposing full approval of revisions to the Vehicle Inspection and Maintenance (I/M) Program for the Dallas/Fort Worth (DFW), Houston-Galveston Area (HGA) and El Paso (ELP) ozone nonattainment areas adopted by the State of Texas. The revisions replace the two-speed idle test in Dallas and Tarrant Counties with ASM-2, expand the upgraded I/M program to cover the entire DFW nonattainment area plus five additional counties, and implement On-Board Diagnostic (OBD) testing in Dallas, Tarrant, Harris, and El Paso Counties. The I/M SIP revision is part of the DFW Attainment Demonstration.

DATES: Comments must be received on or before February 21, 2001.

ADDRESSES: Written comments on this action should be addressed to Mr. Thomas H. Diggs, Chief, Air Planning Section, at the EPA Regional Office listed below. Copies of the documents relevant to this action are available for public inspection during normal business hours at the following locations. Environmental Protection Agency, Region 6, Air Planning Section (6PD-L), 1445 Ross Avenue, Suite 700, Dallas, Texas 75202-2733. Texas Natural Resource Conservation Commission, 12100 Park 35 Circle, Austin, Texas 78711-3087. Persons interested in examining these documents should make an appointment with the appropriate office at least 24 hours before the visiting day.

FOR FURTHER INFORMATION CONTACT: Ms. Sandra G. Rennie, Air Planning Section (6PD-L), EPA Region 6, 1445 Ross Avenue, Dallas, Texas 75202-2733, telephone (214) 665-7367.

SUPPLEMENTARY INFORMATION:

What Is the Status of the Current I/M Program in Texas?

A low-enhanced vehicle I/M program called the Texas Motorist Choice (TMC) Program is operating in the Dallas-Fort Worth, Houston, and El Paso ozone nonattainment areas. The program consists of a 2-speed idle test and gas cap test in Dallas, Tarrant, Harris, and El Paso counties, the core counties of the program. In addition, the program has a remote sensing component to identify gross polluters that commute into the core counties from Denton and Collin Counties in the Dallas-Fort Worth area, and from seven surrounding nonattainment counties in the Houston area. An interim conditional approval for this program was proposed on October 3, 1996 (61 FR 51651). An interim final conditional approval was published on July 11, 1997 (62 FR 37138). The conditions were removed from the interim approval on April 23, 1999 (64 FR 19910).

The State submitted an approvable 18-month demonstration on February 8, 1999, as required by the National Highway System Designation Act of 1995 (NHSDA), Public Law 104-59, section 348(c)(1). The program was not fully approved at that time because one provision of the interim approval required that the State provide evidence that the remote sensing program be effective in identifying the shortfall in number of vehicles needed to make up for the lack of a tailpipe testing program in all the nonattainment counties. The State began the remote sensing program in October 1998. Because the State submitted this I/M SIP revision in which it expands geographic coverage, the requirement to cover the shortfall with remote sensing (the final barrier to final full approval) is eliminated when the new I/M tests start in each county in the DFW area.

Why Is the State Submitting This SIP Revision to the I/M Program?

The DFW nonattainment area was bumped up from moderate to serious effective March 23, 1998 (63 FR 8128). An attainment demonstration submitted in March 1999 was found to be incomplete, which started a Federal sanction clock (64 FR 29570, June 2, 1999). This I/M SIP revision was submitted as part of the new DFW attainment demonstration. Modeling has shown that NOX reductions are essential to reaching attainment in the DFW area. As a result, the Texas Motorist Choice I/M program has been revised to include measurement for NOX emissions and to provide additional NOX emission reductions by expanding coverage of the program to all four counties within the nonattainment area (Dallas, Tarrant, Collin and Denton) and selected attainment counties in the DFW Consolidated Metropolitan Statistical Area (CMSA).

What Did the State Submit?

The I/M SIP revision was submitted under a Governor's letter dated April 25, 2000. The State plans to replace the 2-speed idle test in the DFW area with ASM-2, and expand the testing area to include all four nonattainment counties plus five additional counties contiguous to the nonattainment area (Ellis, Johnson, Kaufman, Parker, and Rockwall). The SIP revision contains a narrative, rules, modeling, and supporting documentation as outlined in the requirements of the Federal I/M rules.

What Is an ASM-2 Test?

Acceleration Simulation Mode, known as ASM, operates the vehicle at a steady load and steady speed on a treadmill-type device called a dynamometer. The test more accurately simulates real world driving conditions than the current two-speed idle test. ASM-2 means that the test is performed in both approved testing modes, i.e., operating the vehicle at 50% load at 15 MPH (ASM5015) and then operating the vehicle at 25% load at 25 MPH (ASM2525). The test measures exhaust concentrations for hydrocarbons, carbon monoxide, and NOX. Pass/fail standards are based on the chassis model year and engine displacement.

EPA's Analysis of Texas's I/M Program

The EPA reviewed the State's proposal against the requirements contained in the Act and Federal I/M rules (40 CFR part 51, subpart S). The submittal was also reviewed for administrative completeness under criteria contained in Federal rules (40 CFR part 51, appendix V). The submittal was found complete in a letter dated June 23, 2000.

The following analysis addresses how the State intends to fulfill the requirements of the Act and the Federal I/M rules. Only the sections of the rule for which the State has made changes are discussed. All other sections of this I/M SIP submittal remain the same as previously approved on an interim basis.

Legal authority for the State to implement the I/M program continues to be granted by Chapter 382 of the Texas Health and Safety Code, and Transportation Code sections 502 and 548.

Section 51.350 Applicability

EPA's regulations establish the minimum geographic scope for nonattainment I/M programs based on nonattainment classification and area population. As stated previously, the Texas Motorist Choice program currently approved in the SIP does not include tailpipe testing throughout the urbanized nonattainment areas. The vehicle shortfall is covered through a remote sensing program.

Beginning January 1, 2001, On-Board Diagnostic (OBD) testing will be added to the low-enhanced, two-speed idle test currently implemented in Harris, Dallas, Tarrant, and El Paso Counties. The shortfall in vehicle coverage for the HGA nonattainment area will continue to be made up by remote sensing within Harris County to identify gross polluting vehicles commuting in from the seven surrounding nonattainment counties. The shortfall in vehicle coverage for the DFW nonattainment area will continue to be made up by remote sensing within Dallas and Tarrant Counties to identify gross polluting vehicles commuting in from Collin and Denton Counties only until tailpipe testing begins in those counties. In prior actions on the Texas I/M SIP, we said the remote sensing program must prove to be effective in identifying and obtaining repairs on the same number of vehicles that would be brought in if the program covered the entire urbanized area. Otherwise, the Texas I/M core program areas (Harris County, Dallas, and Tarrant Counties) must be expanded to include the entire urbanized area. (See, 61 FR 51659 and 62 FR 37141.) The DFW I/M core area is being expanded to include the entire nonattainment area plus five additional counties in the CMSA. An expansion to the entire nonattainment area is currently being proposed by the State for HGA but is not the subject of this notice.

Beginning May 1, 2002, the State commits to begin vehicle testing in Dallas, Tarrant, Collin and Denton Counties utilizing ASM-2 or a vehicle emissions testing program that meets SIP emissions reduction requirements and is approved by EPA. This will be in addition to OBD testing.

Beginning May 1, 2003, the State will expand the I/M program to include the attainment counties of Ellis, Johnson, Kaufman, Parker, and Rockwall. These additional counties will transition from performing just safety inspections plus gas cap pressure testing to also doing OBD and ASM-2 (or other EPA approved) testing as described above.

The State submittal meets the requirements of § 51.350 of the Federal I/M regulation for approval.

Section 51.351-352 Low Enhanced I/M Performance Standard

The State submitted a modeling demonstration using the EPA computer model MOBILE5a_h and localized parameters showing that the low enhanced performance standard can be met for Volatile Organic Compounds (VOCs) and Nitrogen Oxides ( NOX) in the DFW area with the ASM-2 test proposed by the State. The low enhanced performance standard is established in 40 CFR 51.351(g). The State modeled with a test and repair program that assumes a 100 percent credit for network effectiveness, although the compliance rate is estimated at 95 percent. The State submitted an approvable 18-month demonstration on February 8, 1999, as required by the NHSDA that validated the program credit claimed.

The State submittal meets the performance standard requirement of the Federal I/M regulation for approval.

Section 51.354 Adequate Tools and Resources

Section 382.037(e) and (k), of the Texas Health and Safety Code, authorizes the program to charge an emission inspection fee. The SIP narrative also describes the budget, staffing support, and equipment that will be added to the existing personnel and budget needed to implement the program.

The State submittal meets the adequate tools and resources requirements of the Federal I/M regulations for approval.

Section 51.357 Test Procedures and Standards

Vehicles tested in all area programs are also subject to an antitampering check and a gas cap pressure test. Vehicles that are model year 1996 and newer will receive an OBD check. In the DFW I/M program area, vehicles that are model year 1995 and older will be subject to an ASM-2 loaded mode tailpipe test. The State already committed to implementing OBD testing on all 1996 and newer vehicles beginning January 1, 2001, in a SIP revision that was approved April 23, 1999 (64 FR 19910).

The State submittal meets this requirement for vehicle coverage of the Federal I/M rule.

Section 51.358 Test Equipment

The revised I/M SIP describes the ASM-2 test equipment that will be used in the DFW I/M program area. Specifications are included. OBD testing equipment will meet all Federal requirements contained in 40 CFR 85.2207-2231 and Society of Engineers practices in J2962, J1978, and J1979. The OBD equipment will be tethered to the emissions analyzer which will automatically record the data into a central data collection system.

The State submittal meets the requirement for vehicle coverage of the Federal I/M rule.

Section 51.371 On-Road Testing

Vehicles commuting into Dallas and Tarrant Counties from Denton and Collin Counties will continue to be monitored via remote sensing through April 30, 2002. Starting May 1, 2002, all subject vehicles in Collin and Denton County will receive a tailpipe emissions test, as described in this proposal and the revised SIP.

In addition, the State will comply with the on-road testing requirements by continuing to use remote sensing to evaluate the on-road emissions performance of at least 20,000 vehicles (or 0.5 percent of the fleet) subject to emissions testing in all I/M program areas. All probable high-emitting vehicles which are registered within these counties are identified for compliance follow-up.

The State submittal meets the requirement for on-road testing of the Federal I/M rule.

Section 51.373 Implementation Deadlines

The Texas Motorist Choice Program met the November 15, 1997, start date requirement of the NHSDA. The Texas Motorist Choice Program started in July 1996 in Dallas and Tarrant Counties and in January 1997 in Harris and El Paso Counties. It has been operating continuously since that time.

The revised I/M SIP commits to a schedule for start-up of ASM-2 testing activities and OBD testing. All other aspects of this regulation remain the same as previously approved on an interim basis.

The State submittal meets the compliance with implementation plan submission requirements of the Federal I/M regulations for approval.

Notice of Proposed Rulemaking

Our review of this submittal indicates that the proposed SIP revision meets the minimum requirements of the Act and Federal I/M rules. Based upon the discussion contained in the previous analysis sections and in the Technical Support Document accompanying this notice, we find that the State's submittal represents an acceptable approach to the I/M requirements and meets the requirements for approval.

We propose to grant full approval of the Texas Motorist Choice I/M program in the DFW area. We also propose to approve the I/M SIP revision pertaining to the Houston-Galveston Area and El Paso nonattainment areas.

Nothing in this action should be construed as permitting, allowing, or establishing a precedent for any future request for revision to any State implementation plan. Each request for revision to the State implementation plan shall be considered separately in light of specific technical, economic, and environmental factors and in relation to relevant statutory and regulatory requirements.

Administrative Requirements

Under Executive Order 12866 (58 FR 51735, October 4, 1993), this proposed action is not a “significant regulatory action” and therefore is not subject to review by the Office of Management and Budget. This proposed action merely approves state law as meeting federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4). For the same reason, this proposed rule also does not significantly or uniquely affect the communities of tribal governments, as specified by Executive Order 13084 (63 FR 27655, May 10, 1998). This proposed rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This proposed rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

List of Subjects in 40 CFR part 52

Environmental protection, Air pollution control, Carbon monoxide, Hydrocarbons, Intergovernmental relations, Nitrogen dioxide, Ozone, Particulate matter, Reporting and recordkeeping requirements, Sulfur oxides, Volatile organic compounds.

Authority: 42 U.S.C. 7401 et seq.

Dated: January 4, 2001.
Gregg A. Cooke,
Regional Administrator, Region 6.

[FR Doc. 01-1519 Filed 1-19-01; 8:45 am]

BILLING CODE 6560-50-P